DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 34772-34774, dated June 15, 2005) is amended to reflect the reorganization of the Office of the Chief Science Officer, Office of the Director, Centers for Disease Control and Prevention.

Section C-B, Organization and Functions, is hereby amended as follows:

Revise the functional statement for the Office of the Chief Science Officer (CAS), as follows:

After item (11), insert the following item: (12) monitors vaccine safety and conducts scientific research to evaluate the safety of all currently available and new vaccines.

Delete items (5) of the functional statement for the Epidemiology and Surveillance Division (CJ3), National Immunization Program (CJ) and renumber the remaining items accordingly.

Delete the functional statement for the Immunization Safety Branch (CJ37), Epidemiology and Surveillance Division (CJ3), National Immunization Program (CJ) in its entirety.

Dated: July 29, 2005.
William H. Gimson,
Chief Operating Officer, Centers for Disease Control and Prevention (CDC).

[FR Doc. 05-15800 Filed 8-9-05; 8:45 am]

BILLING CODE 4160-18-M